DEPARTMENT OF ENERGY

Federal Energy Regulatory Commission

Combined Notice of Filings

Take notice that the Commission has received the following Natural Gas Pipeline Rate and Refund Report filings:

Filings Instituting Proceedings

Docket Numbers: RP20-908-004.

Applicants: Alliance Pipeline L.P.

Description: Alliance Pipeline L.P. submits tariff filing per 154.501: Alliance RP20-908 Refund Report to be effective N/A.

Filed Date: 11/10/21.

Accession Number: 20211110-5197.

Comment Date: 5 p.m. ET 11/22/21.

Docket Numbers: RP22-329-000.

Applicants: National Grid LNG, LLC.

Description: Compliance filing: 2021-11-18 Order 587-Z. Compliance Filing Adopting NAESB WQC Version 3.2 to be effective 6/1/2022.

Filed Date: 11/18/21.

Accession Number: 20211118-5176.

Comment Date: 5 p.m. ET 11/30/21.

Docket Numbers: RP22-330-000.

Applicants: Natural Gas Pipeline Company of America LLC.

Description: § 4(d) Rate Filing: Negotiated Rate Filing—Luminant Energy Company LLC to be effective 12/1/2021.

Filed Date: 11/19/21.

Accession Number: 20211119-5000.

Comment Date: 5 p.m. ET 12/1/21.

Docket Numbers: RP22-331-000.

Applicants: Transcontinental Gas Pipe Line Company, LLC.

Description: § 4(d) Rate Filing: Non-Conforming—Leidy South—In-Svc—Cabot/Coterra to be effective 12/1/2021.

Filed Date: 11/19/21.

Accession Number: 20211119-5001.

Comment Date: 5 p.m. ET 12/1/21.

Docket Numbers: RP22-332-000.

Applicants: Southern Star Central Gas Pipeline, Inc.

Description: Compliance filing: Annual Cash-Out Activity Report 2021 to be effective N/A.

Filed Date: 11/19/21.

Accession Number: 20211119-5067.

Comment Date: 5 p.m. ET 12/1/21.

Docket Numbers: RP22-333-000.

Applicants: Southern Star Central Gas Pipeline, Inc.

Description: Compliance filing: Annual Operational Flow Order Report 2021 to be effective N/A.

Filed Date: 11/19/21.

Accession Number: 20211119-5072.

Comment Date: 5 p.m. ET 12/1/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP20-614-006.

Applicants: Transcontinental Gas Pipe Line Company, LLC.

Description: Refund Report: Cash Out Refund Report Supplement Docket Nos. RP20-614 & RP20-618 to be effectiveN/A.

Filed Date: 11/19/21.

Accession Number: 20211119-5022.

Comment Date: 5 p.m. ET 12/1/21.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2021.
Kimberly D. Bose,
Secretary.

[FR Doc. 2021-25849 Filed 11-24-21; 8:45 am]

BILLING CODE 6717-01-P